ENVIRONMENTAL PROTECTION AGENCY

[ER-FRL-6614-5]

Environmental Impact Statements; Notice of Availability

RESPONSIBLE AGENCY: Office of Federal Activities, General Information (202) 564-7167 or www.epa.gov/oeca/ofa

Weekly receipt of Environmental Impact Statements

Filed January 02, 2001 Through January 05, 2001

Pursuant to 40 CFR 1506.9.

EIS No. 000475, Revised Draft EIS, COE, NY, Sauquoit Creek Flood Control Project, Significant Revisions Concerning Old Project Descriptions, Alternatives Considered and New Project and Original Project Comparisons of Environmental Impacts, Sauquoit Creek Basin, Whitesboro, Oneida County, NY, Due: November 20, 2000, Contact: Kimberly Rightler (212) 264-9846. This Revised Draft EIS replaces DEIS #860064, filed 02/21/1986. Due to an Administrative Error by the US Army Corps of Engineers (COE) the above Revised Draft EIS was not properly filed with the US EPA. COE has confirmed that distribution of the Revised Draft EIS was made available to all federal agencies and interested parties for the 45-day review period. For further information contact the COE Contact listed above.

EIS No. 010000, Final EIS, NPS, FL, Dry Tortugas National Park General Management Plan, Implementation, Monroe County, FL, Due: February 12, 2001, Contact: Richard Ring (305) 242-7710.

EIS No. 010001, Draft EIS, FAA, GA, Hartsfield Atlanta International Airport, Construction and Operation of the 9,000-Foot Fifth Runway and Associated Projects, Approval of Airport Layout Plan (ALP), City of Atlanta, Fulton and Clayton Counties, GA, Due: February 26, 2001, Contact: Donna M. Meyer (404) 305-7150.

EIS No. 010002, Draft EIS, MMS, AK, Liberty Development and Production Plan, Beaufort Sea Oil and Gas Development, Implementation, To Transport and Sell Oil to the U.S. and World Markets, Right-of-Way Application, Offshore Beaufort Sea Marine Environment and Onshore North Slope of Alaska Coastal Plan, AK, Due: March 13, 2001, Contact: George Valiulis (703) 787-1662.

EIS No. 010003, Draft EIS, NOA, HI, GU, AS, Coral Reef Ecosystems of the Western Pacific Region, Fishery Management Plan, Including Amendments to Four Existing FMPs, Amendment 7—Bottomfish and Seamount Groundfish Fisheries, Amendment 11—Crustaceans Fisheries; Amendment 5—Precious Corals Fisheries and Amendment 10—Pelagics Fisheries, HI, GU and AS, Due: February 26, 2001, Contact: Charles Karnella (202) 482-5916.

EIS No. 010004, Final EIS, FRC, IL, WI, Guardian Pipeline Project, Proposal to Construct and Operate an Interstate Natural Gas Pipeline that would extend from Joliet (Will County), IL and Ixonia (Jefferson County), WI, Due: February 12, 2001, Contact: Paul McKee (202) 208-1088.

EIS No. 010005, Final EIS, AFS, OR, Ashland Creek Watershed Protection Project, Proposal to Manage Vegetation, Rogue River National Forest, Ashland Ranger District, City of Ashland, Jackson County, OR, Due: February 12, 2001, Contact: Kristi Mastrofini (541) 482-3333.

EIS No. 010006, Final EIS, BLM, MT, SD, ND, Montana, North Dakota and Portions of South Dakota Off-Highway Vehicle Management and Plan Amendment, Implementation, MT, ND and SD, Due: February 12, 2001, Contact: Jerry Majerus (406) 538-1924.

EIS No. 010007, Final EIS, AFS, CA, NV, Sierra Nevada Forest Plan Amendment Project, Implementation, several counties, CA and NV, Due: February 12, 2001, Contact: John Bradford (916) 492-7554.

Amended Notices

EIS No. 000349, Draft EIS, AFS, ID, Curfew National Grassland Land and Resource Management Plan, Implementation, Caribou-Targhee National Forest, Oneida County, ID, Due: March 30, 2001, Contact: Jack Blackwell (801) 625-5605. Revision of FR notice published on 10/20/2000: CEQ Comment Date has been Extended from 01-29-2001 to 03/30/2001.

EIS No. 000384, Draft Supplement, FHW, CO, Colorado Forest Highway 80, Guanella Pass Road (also known as Park County Road 62, Clear Creek County Road 381 and Forest Development Road 118), Additional Alternative includes Rehabilitation, Light Reconstruction and Full Construction, Funding, Clear Creek and Park Counties, CO, Due: February 02, 2001, Contact: Richard Cushing (303) 716-2138. Revision of FR notice published on 11/17/2000: CEQ Comment Date has been extended from 01/16/2001 to 02/02/2001.

EIS No. 000456, Draft EIS, AFS, AK, Cholmondeley Timber Sales, Implementation, Harvesting Timber, Tongass Forest Plan, Tongass National Forest, Craig Ranger District, West of Ketchikan and South of Prince of Wales Island, AK, Due: February 12, 2001, Contact: Dale Kanen (907) 826-3271. Revision of FR notice published on 12/29/2000: CEQ Due Date Corrected from 02/19/2001 to 02/12/2001.

EIS No. 000464, Draft EIS, NOA, WA, Anadromous Fish Agreements and Habitat Conservation Plans for the Welss, Rocky Reach, and Rock Island Hydroelectric Projects, Implementation, Incidental Take Permits, Chelan and Douglas Counties, WA, Due: March 29, 2001, Contact: Bob Dach (503) 736-4734. Revision of FR notice published on 12/29/2000: CEQ Due Date Corrected from 02/12/2001 to 03/29/2001.

Dated: January 9, 2001.
B. Katherine Biggs,
Associate Director, NEPA Compliance Division, Office of Federal Activities.

[FR Doc. 01-1116 Filed 1-11-01; 8:45 am]

BILLING CODE 6560-50-U